ENVIRONMENTAL PROTECTION AGENCY

[EPA-HQ-OPP-2017-0466; FRL-9975-97]

Product Cancellation Orders: Certain Pesticide Registrations and Amendments To Terminate Uses; Correction

AGENCY: Environmental Protection Agency (EPA).

ACTION: Notice; correction.

SUMMARY: EPA issued a notice in the Federal Register of December 26, 2017, concerning the cancellations and amendments to terminate uses voluntarily requested by the registrants and accepted by the Agency. This document is being issued to correct the cancellation order in Section IV as the entries in Tables 1B were not administered correctly.

DATES: The Federal Register of October 3, 2017, announcing the request to voluntarily cancel pesticide registrations specified that the cancellations of products listed in Table 1B will be effective December 31, 2020.

FOR FURTHER INFORMATION CONTACT: Christopher Green, Information Technology and Resources Management Division (7502P), Office of Pesticide Programs, Environmental Protection Agency, 1200 Pennsylvania Ave. NW, Washington, DC 20460-0001; telephone number: (703) 347-0367; email address: green.christopher@epa.gov.

SUPPLEMENTARY INFORMATION:

I. General Information

A. Does this action apply to me?

This action is directed to the public in general. Although this action may be of particular interest to persons who produce or use pesticides, the Agency has not attempted to describe all the specific entities that may be affected by this action.

B. How can I get copies of this document and other related information?

The docket for this action, identified by docket identification (ID) number EPA-HQ-OPP-2017-0466, is available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What does this correction do?

This notice is being issued to correct Section IV of the cancellation notice. This correction changes the cancellation date for the two entries in Table 1B.

FR Doc. 2017-27811 published in the Federal Register of December 26, 2017 (80 FR 60985) (FRL-9971-10) is corrected as follows:

On page 60989, in Section IV, correct the cancellation order statement to read:

“The effective date of the cancellations that are subject of this notice is December 26, 2017, for the registrations identified in Table 1A and the effective date of the cancellation that are subject of this notice is December 31, 2020, for the registrations identified in Table 1B. The requests to cancel the registrations identified in Table 1B would terminate the last Spirodiclofen products registered for use in the United States.”

Authority: 7 U.S.C. 136 et seq.

Dated: March 27, 2018.
Delores Barber,
Director, Information Technology and Resource Management Division, Office of Pesticide Programs.

[FR Doc. 2018-07738 Filed 4-12-18; 8:45 am]

BILLING CODE 6560-50-P